DEPARTMENT OF COMMERCE

International Trade Administration

A-427-801, A-559-801, A 412-801, A-588-804

Antifriction Bearings and Parts Thereof from France, Singapore, the United Kingdom, and Japan: Notice of Rescission and Partial Rescission of Antidumping Duty Administrative Reviews

AGENCY: Import Administration, International Trade Administration, Department of Commerce

SUMMARY: On June 30, 2005, the Department of Commerce published a notice of initiation of antidumping and countervailing duty administrative reviews. The notice covered ball bearings and spherical plain bearings (SPBs) and parts thereof from France, Singapore, the United Kingdom, and Japan for the period May 1, 2004, through April 30, 2005. The Department is now rescinding the review of the orders on SPBs from France and ball bearings from Singapore and partially rescinding the review of the orders on ball bearings from the United Kingdom and Japan.

EFFECTIVE DATE: October 21, 2005.

FOR FURTHER INFORMATION CONTACT: Lyn Johnson at (202) 482-5287 or Richard Rimlinger at (202) 482-4477, AD/CVD Operations, Office 5, Import Administration, International Trade Administration, U.S., Department of Commerce, 14th Street and Constitution Avenue, NW., Washington, DC 20230.

SUPPLEMENTARY INFORMATION:

Background

On May 15, 1989, the Department published in the Federal Register the antidumping duty orders on ball bearings and SPBs and parts thereof from France (54 FR 20902), ball bearings and parts thereof from Singapore (54 FR 20907), ball bearings and parts thereof from the United Kingdom (54 FR 20910), and ball bearings and parts thereof from Japan (54 FR 20904). On May 2, 2005, the Department published a notice of opportunity to request a review of these orders for the period May 1, 2004, through April 30, 2005. See Notice of Opportunity to Request Administrative Review of Antidumping or Countervailing Duty Order, Finding, or Suspended Investigation, 70 FR 22631 (May 2, 2005). On May 25, 2005, NSK Europe, Ltd., NSK Bearings Europe Ltd. and NSK Corporation (collectively, NSK), requested an administrative review of its exports of ball bearings from the United Kingdom. On May 26, 2005, Asahi Seiko Co., Ltd. (Asahi), requested an administrative review of its exports of ball bearings from Japan. On May 27, 2005, NMB Singapore Ltd., Pelmec Industries (Pte.) Ltd. and NMB Technologies Corporation (collectively, NMB/Pelmec), requested an administrative review of their exports of ball bearings from Singapore. On May 31, 2005, SKF USA Inc., a domestic producer and importer of the subject merchandise and SKF France S.A. and Sarma, producers and exporters of the subject merchandise (collectively, SKF), requested an administrative review of SKF's exports of ball bearings and SPBs from France. Accordingly, the Department published a notice of initiation of these antidumping duty administrative reviews on June 30, 2005, in accordance with section 751(a) of the Tariff Act of 1930 as amended (the Act). See Notice of Initiation of Antidumping and Countervailing Duty Administrative Reviews, 70 FR 37749 (June 30, 2005).

NSK submitted a letter to the Department on July 27, 2005, withdrawing its request for a review of its exports of ball bearings from the United Kingdom. NMB/Pelmec submitted a letter to the Department on September 23, 2005, withdrawing its request for a review of its exports of ball bearings from Singapore. Asahi submitted a letter to the Department on September 26, 2005, withdrawing its request for a review of its exports of ball bearings from Japan. Finally, SKF submitted a letter to the Department on August 22, 2005, withdrawing its request for a review of its exports of SPBs from France.

Rescission of Administrative Reviews

Pursuant to 19 CFR 351.213(d)(1), the Department will rescind an administrative review, in whole or in part, if the party withdraws its request for a review within 90 days of the date of publication of the notice of initiation of the requested review. NSK, NMB/Pelmec, Asahi, and SKF withdrew their requests for review within 90 days of the date the initiation notice was published and no other party requested a review of these companies. There were no other requests for review of the orders on SPBs from France and ball bearings from Singapore. Therefore, pursuant to 19 CFR 351.213(d)(1), the Department is rescinding the reviews of the orders on SPBs from France and ball bearings from Singapore for the period May 1, 2004, through May 30, 2005. Because there are still ongoing reviews of the orders on ball bearings from the United Kingdom and ball bearings from Japan, the Department is rescinding these reviews in part. Pursuant to 19 CFR 351.213(d)(1), the Department is rescinding the reviews of the order on ball bearings from the United Kingdom which were produced or exported by NSK and the order on ball bearings from Japan which were produced or exported by Asahi during the period May 1, 2004, through May 30, 2005.

Notification Regarding APOs

This notice also serves as a reminder to parties subject to administrative protective orders (APO) of their responsibility concerning the return or destruction of proprietary information disclosed under APO in accordance with 19 CFR 351.305, which continues to govern business proprietary information in this segment of these proceedings. Timely written notification of the return/destruction of APO materials or conversion to judicial protective order is hereby requested. Failure to comply with the regulations and terms of an APO is a violation which is subject to sanction.

This notice is published in accordance with section 777(i) of the Act and 19 CFR 351.213(d)(4).

Dated: October 17, 2005.
Gary Taverman,
Acting Deputy Assistant Secretary for Import Administration.

[FR Doc. E5-5829 Filed 10-20-05; 8:45 am]

BILLING CODE 3510-DS-S